Executive Order 13982 of January 19, 2021

Care of Veterans With Service in Uzbekistan

By the authority vested in me as President by the Constitution and the laws of the United States of America, it is hereby ordered as follows:

Section 1. The Secretary of Veterans Affairs, in consultation with the Secretary of Defense, shall consider whether to designate veterans who served on active duty in Uzbekistan between October 1, 2001, and December 31, 2005, as veterans who served on active duty in a theater of combat operations pursuant to section 1710(e)(1)(D) of title 38, United States Code.

Sec. 2. Within 365 days of the date of this order, the Secretary of Defense shall conduct a rigorous study investigating toxic exposure by members of the Armed Forces deployed to the Karshi-Khanabad Air Base, Uzbekistan (Air Base), between October 1, 2001, and December 31, 2005. The Secretary of Defense shall submit a report summarizing the findings of the study to the President, through the Secretary of Veterans Affairs. The study shall include the following elements:

(a) A detailed assessment of the conditions at the Air Base between October 1, 2001, and December 31, 2005, including identification of any toxic substances contaminating the Air Base during such period, the exact locations of the toxic substances, the time frames of exposure to the toxic substances, the service members exposed to the toxic substances, and the circumstances of such exposure.

(b) A rigorous epidemiological study of any health consequences for members of the Armed Forces deployed to the Air Base between October 1, 2001, and December 31, 2005. This study shall be of equivalent rigor to studies used by the Department of Veterans Affairs to make determinations regarding diseases subject to presumptive service connections.

(c) An assessment of any causal link between exposure to any toxic substances identified in subsection (a) of this section and any health consequences studied under subsection (b) of this section.

Sec. 3. General Provisions. (a) Nothing in this order shall be construed to impair or otherwise affect:

(i) the authority granted by law to an executive department or agency, or the head thereof; or

(ii) the functions of the Director of the Office of Management and Budget related to budgetary, administrative, or legislative proposals.

(b) This order shall be implemented in a manner consistent with applicable law and subject to the availability of appropriations.

(c) This order is not intended to, and does not, create any right or benefit, substantive or procedural, enforceable at law or in equity by any party against the United States, its departments, agencies, or entities, its officers, employees, or agents, or any other person.

THE WHITE HOUSE,

January 19, 2021.

[FR Doc. 2021-01712

Filed 1-22-21; 8:45 am]

Billing code 3295-F1-P